DEPARTMENT OF TRANSPORTATION

Federal Aviation Administration

Notice of Intent of Waiver With Respect to Land; Freeman Municipal Airport, Seymour, IN

AGENCY: Federal Aviation Administration (FAA), Transportation (DOT).

ACTION: Notice.

SUMMARY: The FAA is considering a proposal to change 6.592 acres of airport land from aeronautical use to non-aeronautical use and to authorize the sale of airport property located at Freeman Municipal Airport, Seymour, IN. The aforementioned land is not needed for aeronautical use. The land is located in the northeast portion of the airport just east of Airport Access Road and north of the Runway 23 runway protection zone. This is vacant land and is proposed to be sold to the City of Seymour for the construction of Burkhart Boulevard.

DATES: Comments must be received on or before August 26, 2020.

ADDRESSES: Documents are available for review by appointment at the FAA Chicago Airports District Office, Victor Iniguez, Program Manager, 2300 East Devon Ave., Des Plaines, IL 60018 Telephone: (847) 294-7436/Fax: (847) 294-7046.

Written comments on the Sponsor's request must be delivered or mailed to: Victor Iniguez, Program Manager, Federal Aviation Administration, Chicago Airports District Office, 2300 East Devon Ave., Des Plaines, IL 60018, Telephone Number: (847) 294-7436/FAX Number: (847) 294-7046.

FOR FURTHER INFORMATION CONTACT: Victor Iniguez, Program Manager, Federal Aviation Administration, Chicago Airports District Office, 2300 East Devon Ave., Des Plaines, IL. Telephone Number: (847) 294-7436/FAX Number: (847) 294-7046.

SUPPLEMENTARY INFORMATION: In accordance with section 47107(h) of Title 49, United States Code, this notice is required to be published in the Federal Register 30 days before modifying the land-use assurance that requires the property to be used for an aeronautical purpose.

There is no current or future aeronautical need for the subject land. It is currently vacant land used for agricultural and open space. The land is surplus property from the U.S. Government that was transferred to the Seymour Aviation Commission (later to become the Seymour Municipal Airport Authority) on November 30, 1948. The proposed use of the land is for the construction of Burkhart Boulevard. The airport will receive fair market value for the sale of this land.

The disposition of proceeds from the sale of the airport property will be in accordance with FAA's Policy and Procedures Concerning the Use of Airport Revenue, published in the Federal Register on February 16, 1999 (64 FR 7696).

This notice announces that the FAA is considering the release of the subject airport property at the Freeman Municipal Airport, Seymour, IN, from federal land covenants, subject to a reservation for continuing right of flight as well as restrictions on the released property as required in FAA Order 5190.6B section 22.16. Approval does not constitute a commitment by the FAA to financially assist in the disposal of the subject airport property nor a determination of eligibility for grant-in-aid funding from the FAA.

Parcel 1

A part of the Northeast Quarter of the Northeast Quarter of Section 25, Township 6 North, Range 5 East, Jackson County, Indiana, and being that part of the grantor's land lying within the right of way lines depicted on the attached Right of Way Parcel Plat, marked EXHIBIT “B”, described as follows: Commencing at the Northeast corner of Section 25, Township 6 North, Range 5 East, on the North boundary line, thence South 88 degrees 40 minutes West on said section line for a distance of 217.1 feet to a point marked with an iron pin, thence South 0 degrees 49 minutes East for a distance of 344.3 feet (the foregoing portion of this description beginning with the words “at the Northeast” is quoted from Deed Record 93, page 405) to the centerline of G Avenue and to the point of beginning of this description, said point of beginning being a corner of a 2,234.25-acre tract of land described in Deed Record 93, page 405: Thence South 89 degrees 09 minutes 48 seconds West 140.83 feet along said centerline; thence North 2 degrees 22 minutes 06 seconds West 16.62 feet to point “627” designated on said plat; thence North 81 degrees 46 minutes 55 seconds East 54.18 feet to point “626” designated on said plat; thence North 88 degrees 37 minutes 01 second East 37.01 feet to point “625” designated on said plat; thence North 78 degrees 19 minutes 23 seconds East 51.61 feet to the west line of said 2,234.25-acre tract of land; thence South 0 degrees 34 minutes 44 seconds East 33.63 feet along the west line to the point of beginning and containing 0.078 acres, more or less, inclusive of the presently existing right of way, which contains 0.026 acres, more or less.

Parcel 1A

A part of the Northeast Quarter of the Northeast Quarter of Section 25, Township 6 North, Range 5 East, Jackson County, Indiana, and being that part of the grantor's land lying within the right of way lines depicted on the attached Right of Way Parcel Plat, marked EXHIBIT “B”, described as follows: Beginning at the northeast corner of said section, said northeast corner being designated as point “10131” on said plat; thence South 0 degrees 12 minutes 35 seconds East 344.46 feet along the east line of said section to the centerline of G Avenue; thence South 89 degrees 09 minutes 48 seconds West 214.87 feet along said centerline to a corner of a 2,234.25-acre tract of land described in Deed Record 93, page 405; thence North 0 degrees 34 minutes 44 seconds West 33.63 feet along the west line of said 2,234.25-acre tract of land; thence North 78 degrees 19 minutes 23 seconds East 138.44 feet to point “624” designated on said plat; thence North 36 degrees 03 minutes 13 seconds East 17.53 feet to point “623” designated on said plat; thence North 0 degrees 52 minutes 43 seconds West 173.01 feet to point “622” designated on said plat; thence North 3 degrees 40 minutes 01 second East 49.00 feet to the west boundary of Airport Road (First Avenue) at point “621” designated on said plat; thence North 0 degrees 30 minutes 40 seconds West 48.47 feet along the boundary of said Airport Road (First Avenue) to the north line of said section; thence North 88 degrees 47 minutes 57 seconds East 68.00 feet along said north line to the point of beginning and containing 0.710 acres, more or less, inclusive of the presently existing right of way, which contains 0.325 acres, more or less.

Parcel 24

A part of the Northwest Quarter of Section 30, Township 6 North, Range 6 East, Jackson County, Indiana, and being that part of the grantor's land lying within the right of way lines depicted on the attached Right of Way Parcel Plat, marked EXHIBIT “B”, described as follows: Beginning at a point on the west line of said section South 0 degrees 25 minutes 41 seconds East 399.12 feet from the northwest corner of said section, said point of beginning being the intersection of said west line with the prolonged south line of a 1.427-acre tract of land described in Deed Record 273, page 22; thence South 89 degrees 34 minutes 39 seconds East 63.37 feet along said prolonged south line and along the south line of said 1.427-acre tract of land; thence South 8 degrees 25 minutes 32 seconds East 43.76 feet to point “617” designated on said plat; thence South 28 degrees 45 minutes 04 seconds East 56.82 feet to point “616” designated on said plat; thence South 66 degrees 43 minutes 58 seconds East 98.68 feet to point “615” designated on said plat; thence North 88 degrees 02 minutes 46 seconds East 251.05 feet to point “614” designated on said plat; thence North 89 degrees 11 minutes 14 seconds East 128.83 feet to the east line of the grantor's land; thence South 0 degrees 45 minutes 05 seconds East 105.77 feet along said east line to the centerline of G Avenue; thence South 89 degrees 24 minutes 05 seconds West 568.05 feet along said centerline to the west line of said section; thence North 0 degrees 12 minutes 35 seconds West 233.86 feet along said west line to the point of beginning and containing 1.623 acres, more or less, inclusive of the presently existing right of way, which contains 0.192 acres, more or less.

Parcel 25

A part of Lot 1, in Freeman Municipal Airport Industrial Park, a subdivision in the West Half of Section 30, Township 6 North, Range 6 East, and the Southeast Quarter of Section 25, Township 6 North, Range 5 East, the plat of which is recorded in Plat Book 6, page 2, in the Office of the Recorder of Jackson County, Indiana, and being that part of the grantor's land lying within the right of way lines depicted on the attached Right of Way Parcel Plat, marked EXHIBIT “B”, described as follows: Beginning at the northwest corner of said lot; thence North 89 degrees 24 minutes 05 seconds East 231.44 feet along the north line of said lot to point “512” designated on said parcel plat; thence South 0 degrees 48 minutes 46 seconds East 15.75 feet to point “511” designated on said parcel plat; thence South 88 degrees 00 minutes 44 seconds West 78.01 feet to point “510” designated on said parcel plat; thence South 86 degrees 42 minutes 08 seconds West 146.21 feet to point “509” designated on said parcel plat; thence South 0 degrees 36 minutes 26 seconds East 229.00 feet to point “508” designated on said parcel plat; thence South 89 degrees 37 minutes 05 seconds West 7.505 feet to the west line of said lot at point “507” designated on said parcel plat; thence North 0 degrees 35 minutes 55 seconds West 253.50 feet along said west to the point of beginning and containing 0.144 acres, more or less.

Parcel 26

A part of Lot 4, in Freeman Municipal Airport Industrial Park, a subdivision in the West Half of Section 30, Township 6 North, Range 6 East, and the Southeast Quarter of Section 25, Township 6 North, Range 5 East, the plat of which is recorded in Plat Book 6, page 2, in the Office of the Recorder of Jackson County, Indiana, and being that part of the grantor's land lying within the right of way lines depicted on the attached Right of Way Parcel Plat, marked EXHIBIT “B”, described as follows: Beginning at the northeast corner of said lot; thence South 0 degrees 35 minutes 55 seconds East 22.02 feet along the east line of said lot to point “515” designated on said parcel plat; thence Westerly 314.79 feet along an arc to the left and having a radius of 4,040.00 feet and subtended by a long chord having a bearing of North 88 degrees 20 minutes 08 seconds West and a length of 314.72 feet to the west line of said lot; thence North 0 degrees 35 minutes 55 seconds West 9.60 feet along said west line to the northwest corner of said lot; thence North 89 degrees 24 minutes 05 seconds East 314.47 feet along the north line of said lot to the point of beginning and containing 0.099 acres, more or less.

Parcel 27

A part of the Northeast Quarter of Section 30, Township 6 North, Range 6 East, Jackson County, Indiana, and being that part of the grantor's land lying within the right of way lines depicted on the attached Right of Way Parcel Plat, marked EXHIBIT “B”, described as follows: Beginning at a point on the east line of said section North 1 degree 21 minutes 22 seconds West 447.85 feet from the southeast corner of said quarter section, said southeast corner being designated as point “10106” on said plat; thence South 45 degrees 16 minutes 05 seconds West 124.67 feet; thence North 21 degree 06 minutes 34 seconds West 123.55 feet to point “520” designated on said plat; thence South 88 degrees 48 minutes 26 seconds West 69.02 feet to point “519” designated on said plat; thence Northwesterly 737.90 feet along an arc to the right and having a radius of 1,260.00 feet and subtended by a long chord having a bearing of North 74 degrees 24 minutes 57 seconds West and a length of 727.40 feet to the northwestern line of the grantor's land; thence North 45 degrees 17 minutes 57 seconds East 154.46 feet along said northwestern line; thence Southeasterly 615.46 feet along an arc to the left and having a radius of 1,110.00 feet and subtended by a long chord having a bearing of South 75 degrees 18 minutes 30 seconds East and a length of 607.61 feet to point “610” designated on said plat; thence North 88 degrees 48 minutes 26 seconds East 120.02 feet to point “609” designated on said plat; thence North 8 degrees 00 minutes 09 seconds East 139.41 feet to the south line of a 5.132-acre tract of land described in Miscellaneous Record Y, page 365; thence North 88 degrees 43 minutes 38 seconds East 58.28 feet along said south line and along the prolonged south line of said 5.132-acre tract to the east line of said section; thence South 1 degree 21 minutes 22 seconds East 317.98 feet along said east line to the point of beginning and containing 3.451 acres, more or less, inclusive of the presently existing right of way, which contains 0.181 acres, more or less.

Parcel 27A

A part of the Northeast Quarter of Section 30, Township 6 North, Range 6 East, Jackson County, Indiana, and being that part of the grantor's land lying within the right of way lines depicted on the attached Right of Way Parcel Plat, marked EXHIBIT “B”, described as follows: Beginning at a point on the east line of said section North 1 degree 21 minutes 22 seconds West 193.13 feet from the southeast corner of said quarter section, said southeast corner being designated as point “10106” on said plat; thence South 88 degrees 38 minutes 38 seconds West 29.90 feet to point “521” designated on said plat; thence North 21 degrees 06 minutes 34 seconds West 179.67 feet; thence North 45 degrees 16 minutes 05 seconds East 124.67 feet to the east line of said section; thence South 1 degree 21 minutes 22 seconds East 254.72 feet along said east line to the point of beginning and containing 0.323 acres, more or less, inclusive of the presently existing right of way, which contains 0.134 acres, more or less.

Parcel 28

A part of the Northeast Quarter of Section 30, Township 6 North, Range 6 East, Jackson County, Indiana, and being that part of the grantor's land lying within the right of way lines depicted on the attached Right of Way Parcel Plat, marked EXHIBIT “B”, described as follows: Beginning at a point on the east line of said section North 1 degree 21 minutes 22 seconds West 765.82 feet from the southeast corner of said quarter section, said southeast corner being designated as point “10106” on said plat, said point of beginning being the intersection of said east line with the prolonged south line of a 5.132-acre tract of land described in Miscellaneous Record Y, page 365; thence South 88 degrees 43 minutes 38 seconds West 58.28 feet along said prolonged south line and along the south line of said 5.132-acre tract of land; thence North 8 degrees 00 minutes 09 seconds East 174.54 feet to point “608” designated on said plat; thence North 88 degrees 38 minutes 38 seconds East 29.90 feet to the east line of said section; thence South 1 degree 21 minutes 22 seconds East 172.31 feet along said east line to the point of beginning and containing 0.174 acres, more or less, inclusive of the presently existing right of way, which contains 0.095 acres, more or less.

Issued in Des Plaines, IL on July 22, 2020.
Debra L Bartell,
Manager, Chicago Airports District Office, FAA, Great Lakes Region.

[FR Doc. 2020-16231 Filed 7-24-20; 8:45 am]

BILLING CODE 4910-13-P